DEPARTMENT OF DEFENSE

Department of the Navy

[Docket ID: USN-2022-HQ-0007]

Submission for OMB Review; Comment Request

AGENCY: Department of the Navy, Department of Defense (DoD).

ACTION: 30-Day information collection notice.

SUMMARY: The Department of Defense has submitted to OMB for clearance the following proposal for collection of information under the provisions of the Paperwork Reduction Act.

DATES: Consideration will be given to all comments received by June 13, 2022.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela Duncan, 571-372-7574, whs.mc-alex.esd.mbx.dd-dod-information-collections@mail.mil.

SUPPLEMENTARY INFORMATION:

Title; Associated Form; and OMB Number: Navy Flight Demonstration Squadron (Blue Angels) Backseat Rider Programs Forms; OPNAV Forms 5720/13, 5720/14, and 5720/15; OMB Control Number 0703-0073.

Type of Request: Revision.

Number of Respondents: 384.

Responses per Respondent: 1.25.

Annual Responses: 480.

Average Burden per Response: 30 minutes.

Annual Burden Hours: 240.

Needs and Uses: This information collection requirement is necessary to medically clear and coordinate with individuals selected through the Key Influencer program and media personnel so that they may participate in backseat flights at Blue Angels' air shows and demonstrations. Flying these candidates, in coordination with media presence, is intended to promote the Navy and Marine Corps as professional and exciting organizations in which to serve. The completed forms certify that the selected individuals are physically fit to fly and that the Blue Angels Public Affairs staff are able to coordinate flight information with respondents. If these forms are not completed, Blue Angels' staff cannot be readily assured of the physical fitness, qualifications and contact information of respondents. Having these forms reviewed by medical personnel and public affairs staff is essential in maintaining the safety and integrity of the Navy Flight Demonstration Backseat Rider process and program.

Affected Public: Individuals or households.

Frequency: On occasion.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Ms. Angela Duncan.

Requests for copies of the information collection proposal should be sent to Ms. Duncan at whs.mc-alex.esd.mbx.dd-dod-information-collections@mail.mil.

Dated: May 9, 2022.
Aaron T. Siegel,
Alternate OSD Federal Register Liaison Officer, Department of Defense.

[FR Doc. 2022-10305 Filed 5-12-22; 8:45 am]

BILLING CODE 5001-06-P